DEPARTMENT OF HEALTH AND HUMAN SERVICES

Centers for Disease Control and Prevention

[60Day-80-08BL]

Proposed Data Collections Submitted for Public Comment and Recommendations

In compliance with the requirement of Section 3506(c)(2)(A) of the Paperwork Reduction Act of 1995 for opportunity for public comment on proposed data collection projects, the Centers for Disease Control and Prevention (CDC) will publish periodic summaries of proposed projects. To request more information on the proposed projects or to obtain a copy of the data collection plans and instruments, call 404-639-5960 and send comments to Maryam I. Daneshvar, CDC Acting Reports Clearance Officer, 1600 Clifton Road, MS-D74, Atlanta, GA 30333 or send an e-mail to omb@cdc.gov.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Written comments should be received within 60 days of this notice.

Proposed Project

Rapid HIV Testing in Community Mental Health Settings Serving African Americans—New—National Center for HIV, Viral Hepatitis, STD and TB Prevention (NCHHSTP), Centers for Disease Control and Prevention (CDC).

Background and Brief Description

People with chronic mental illness, including those with substance use disorders, are at increased risk of HIV compared with the general population. However, not enough is known about the risk behaviors, willingness to be tested for HIV and HIV prevalence among persons with chronic mental illness. In addition, the interrelations among diagnosis of HIV infection, compliance with medical care, subsequent risk behaviors, and the course of mental illness have not been well-described. Mental health clinics are an important setting for HIV rapid testing and promoting prevention efforts against the transmission of HIV infection.

The objectives of this project are to (1) demonstrate improved access to HIV testing and linkage to care in participating mental health care settings; and (2) describe the relationship between mental illness, HIV risk behaviors, and access to testing and services, in order to inform the development of optimal prevention interventions for persons with severe mental illness. Staff at selected implementation sites will offer testing for HIV to clients and administer a brief survey to assess risk behaviors, previous access to similar testing services, and mental health symptoms.

CDC is requesting approval for a 2-year clearance for data collection. Data will be collected in 6 community mental health sites. This project will collect data from clients using a brief survey administered on a voluntary basis. Collection of data will provide information on client demographics; current behaviors that may facilitate HIV transmission, including sexual and drug-use behaviors; current psychiatric symptoms, determined using brief rating scales; access and barriers to HIV testing, prevention, and treatment services; and adherence to psychiatric and medical treatment regimens.

CDC estimates the response rate will be approximately 90%. Of the 644 persons approached who agree to be surveyed, it is estimated that 95% of persons will meet the eligibility criteria and 98% will be able to provide informed consent. Therefore, the goal will be to approach 716 persons annually for participation in the study. The structured interview will take approximately 20 minutes to complete. Participation is voluntary. Data collection will provide important insights into the relationship between HIV/STI risk behaviors and psychiatric illness.

There is no cost to the respondents other than their time.

Estimated Annualized Burden Hours
Type of respondent | Form name | No. of respondents | No. of responses per respondent | Average burden per response (in hours) | Total burden hours
Approached Individual | Eligibility Screener | 644 | 1 | 1/60 | 11
Eligible participant | Consent Questionnaire | 612 | 1 | 10/60 | 102
Consented participant | Core Questionnaire | 600 | 1 | 20/60 | 200
Total |  |  |  |  | 313

Marilyn S. Radke,
Acting Reports Clearance Officer, Centers for Disease Control and Prevention.

[FR Doc. E8-17775 Filed 8-1-08; 8:45 am]

BILLING CODE 4163-18-P